ENVIRONMENTAL PROTECTION AGENCY

[EPA-HQ-OPP-2009-0681; FRL-8822-3]

Draft Test Guidelines; Reopening of Comment Period

AGENCY: Environmental Protection Agency (EPA).

ACTION: Notice; reopening of comment period.

SUMMARY: EPA issued a notice in the Federal Register of January 27, 2010, concerning four draft test guidelines for product performance of public health uses of antimicrobial agents. EPA received a request from the public to extend the comment period. After further consideration, EPA decided to reopen the comment period to allow additional time for public comments. This document reopens the comment period for 60 days.

DATES: Comments, identified by docket identification (ID) number EPA-HQ-OPP-2009-0681, must be received on or before June 28, 2010.

ADDRESSES: Follow the detailed instructions as provided under ADDRESSES in the Federal Register document of January 27, 2010.

FOR FURTHER INFORMATION CONTACT: Michele Wingfield, Antimicrobials Division (7510P), Office of Pesticide Programs, Environmental Protection Agency, 1200 Pennsylvania Ave., NW., Washington, DC 20460-0001; telephone number: (703) 308-6349; e-mail address: wingfield.michele@epa.gov.

SUPPLEMENTARY INFORMATION: This document reopens the public comment period established in the Federal Register issue of January 27, 2010 (75 FR 4380) (FRL-8437-2). In that document, EPA announced the availability of four draft test guidelines for product performance of public health uses of antimicrobial agents for public review and comment. EPA is hereby reopening the comment period.

To submit comments, or access the docket identified as docket ID number EPA-HQ-OPP-2009-0681, please go to http://www.regulations.gov. Please follow the on-line instructions for submitting comments, or follow the detailed instructions as provided under ADDRESSES in the January 27, 2010 Federal Register document. If you have questions, consult the person listed under FOR FURTHER INFORMATION CONTACT.

List of Subjects

Environmental protection, Chemical testing, Test guidelines.

Dated: April 19, 2010.
Steven Bradbury,
Acting Director, Office of Pesticide Programs.

[FR Doc. 2010-9750 Filed 4-27-10; 8:45 am]

BILLING CODE 6560-50-S